DEPARTMENT OF COMMERCE

Bureau of the Census

[Docket Number 180608532-8537-01]

Soliciting Feedback From Users on 2020 Census Data Products

AGENCY: Bureau of the Census, Department of Commerce.

ACTION: Notice and Request for Comment.

SUMMARY: Since 1790, a census of the U.S. population has been conducted every 10 years, as required by the U.S. Constitution. Following the completion of the 2020 Census, the Bureau of the Census (Census Bureau) will disseminate several data products, such as including summary and detailed data tables, national and state demographic profiles, and topical briefs. The Census Bureau anticipates publishing the plans for 2020 Census data products in a future notice and seeks information on how products for prior decennial censuses were used to help determine which products to disseminate for the 2020 Census. An upcoming live question-and-answer webinar will provide an opportunity to ask any procedural questions about how to respond to this Notice.

DATES: Comments on this notice must be received by September 17, 2018.

ADDRESSES: Please address all written comments to Karen Battle, Chief, Population Division, U.S. Census Bureau, 4600 Silver Hill Road, Room 6H174, Washington, DC 20233, or by email at POP.2020.DataProducts@census.gov.

You may also submit comments, identified by the following Census Bureau Docket Identification Number USBC-2018-0009, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only.

FOR FURTHER INFORMATION CONTACT: Karen Battle, U.S. Census Bureau, 4600 Silver Hill Road, Room 6H174, Washington, DC 20233 or by email at POP.2020.DataProducts@census.gov.

SUPPLEMENTARY INFORMATION: The Census Bureau is conducting a comprehensive review of the decennial census data products in preparation for the 2020 Census. It seeks feedback via this Federal Register notice to understand how the public uses decennial census data products. Given the need for improved confidentiality protection, we may reduce the amount of detailed data that we release to the public. Public feedback is essential for a complete review of the decennial census data products will assist the Census Bureau in prioritizing products for the 2020 Census. The Census Bureau is not seeking feedback on apportionment counts and redistricting data products, which are constitutionally mandated.

The Census Bureau invites the public to participate in a live question-and-answer webinar on July 31, 2018 at 2:00 p.m. Eastern Daylight Time, to learn more about the feedback process. The webinar will be recorded and made available later at https://www.census.gov/. Please note that the webinar is intended only to answer questions about the feedback process. All comments must be submitted though either electronic mail, postal mail, or the Federal e-Rulemaking portal as outlined above.

The Census Bureau released a suite of data products following the 2010 Census, including summary and detailed data tables, national and state demographic profiles, and topical briefs. See https://www.census.gov/population/www/cen2010/glance/ for a complete listing of 2020 Census data products and table shells, all of which also are available on the American FactFinder (AFF) website, http://factfinder.census.gov. In addition to general comments, the Census Bureau seeks feedback on the following data products:

Summary File 1 includes detailed tables on age, sex, households, families, relationship to householder, housing units, detailed race and Hispanic or Latino origin groups, and group quarters. Some tables are repeated for nine race and Hispanic or Latino origin groups.

Summary File 2 includes detailed tables on age, sex, households, families, relationship to householder, housing units, and group quarters. Most tables are shown down to the census tract level. Tables are repeated by 75 major race groups, 114 American Indian and Alaska Native (AIAN) groups, 47 Asian groups, 43 Native Hawaiian and Other Pacific Islander groups, and 51 Hispanic or Latino origin groups.

The American Indian and Alaska Native Summary File is a national-level file showing the same content as Summary File 2. Tables are repeated for the total population, the total AIAN population, and for numerous AIAN tribes. Data are shown down to the tract level.

The Demographic Profile shows data for age, sex, race, Hispanic or Latino origin, household relationship, household type, group quarters population, housing occupancy, and housing tenure. The Demographic Profile was released as individual profiles for each of the 50 states, the District of Columbia, and Puerto Rico down to the place/functioning minor civil divisions, as well as for the U.S., regions, divisions, and other areas that cross state boundaries.

The Summary Population and Housing Characteristics Report Series contains tables on age, sex, race, Hispanic or Latino origin, households, families, housing tenure and occupancy, population density, and area measurements. The lowest level of geography is the place level. There is a report produced for each state, the District of Columbia, Puerto Rico, and a U.S. summary.

The Population and Housing Unit Counts Report Series provides tables containing population and housing counts from the 2010 Census and selected historical censuses. Some tables also include area measurements and density. The lowest level of geography is the place level. There is a report produced for each state, the District of Columbia, Puerto Rico, and a U.S. summary. Maps are included at the end of each report, and the User Notes section in each state report documents geographic changes over the past decade.

The Census Population and Housing Tables cover a wide variety of topics, such as race, Hispanic or Latino origin, group quarters, and other data topics obtained from the 2010 Census.

Census Briefs cover a variety of topics, such as race, Hispanic or Latino origin, and age and include analysis of topics using graphs and tables.

The Census Bureau is especially interested in receiving responses to the following questions:

1. How are the data from each individual table and data product used? Include any specific legal, statutory, or programmatic uses. Please cite any supporting federal laws or regulations.

2. Why are decennial census statistics used for this purpose? Please provide a clear justification.

3. Without decennial census data, how would this activity be accomplished (e.g., other data sources)?

4. Who are the users of the specific table or data product?

5. Who is affected by the use of the data in this specific table or data product?

6. How much funding is distributed based on these data?

7. What is the lowest level of geography (e.g., county, census block, etc.) at which data need to be published for each specific table? Please explain why data are needed at this level of geography. The Standard Hierarchy of Census Geographic Entities can be found here: https://www2.census.gov/geo/pdfs/reference/geodiagram.pdf. The Hierarchy of American Indian, Alaska Native, and Hawaiian Areas can be found here: https://www2.census.gov/geo/pdfs/reference/aianhh_diag.pdf.

8. In what additional levels of geography (e.g., county subdivision, school district, etc.) or geographic components (e.g., urban, rural, etc.) do data need to be published for each specific table? If the level of geography specified in the response to item seven relates to the use planned for the levels of geography requested in this response, please explain how they are related. A listing of the available geographic components can be found in the 2010 Census Summary File 1 technical documentation, Chapter 6, pages 177-180: https://www.census.gov/prod/cen2010/doc/sf1.pdf.

9. What programmatic, statutory, or legal uses are there for decennial census data that are not being met by the current suite of decennial census products? The Questions Planned for the 2020 Census and American Community Survey can be found here: https://www2.census.gov/library/publications/decennial/2020/operations/planned-questions-2020-acs.pdf.

A downloadable spreadsheet contains a listing of the data products and specific tables as well as space for feedback: https://www2.census.gov/about/policies/2020-Census-Data-Products-Feedback-Spreadsheet.xlsx. This spreadsheet may be a helpful tool for respondents to provide the requested information, but its use is not required.

Paperwork Reduction Act

Notwithstanding any other provision of law, no person is required to respond to, nor shall a person be subject to a penalty for failure to comply with, a collection of information subject to requirements of the Paperwork Reduction Act (PRA), unless that collection of information displays a current, valid Office of Management and Budget (OMB) control number. In accordance with the PRA, 44 United States Code, Chapter 35, the OMB Control Number for this collection is 0690-0030.

Dated: July 13, 2018.
Ron S. Jarmin,
Associate Director for Economic Programs Performing the Non-Exclusive Functions and Duties of the Director Bureau of the Census.

[FR Doc. 2018-15458 Filed 7-18-18; 8:45 am]

BILLING CODE 3510-07-P